SECURITIES AND EXCHANGE COMMISSION

[File No. 500-1]

In the Matter of Exmocare, Inc. (n/k/a Second Solar, Inc.), First Transation Management, Inc., jetPADS, Inc., PepperBall Technologies, Inc., Pure Play Music, Ltd., Rim Semiconductor Co., Small Business Co., Inc., StarVox Communications, Inc., Steakhouse Partners, Inc., and Sutura, Inc., Order of Suspension of Trading

September 10, 2013.

It appears to the Securities and Exchange Commission that there is a lack of current and accurate information concerning the securities of Exmocare, Inc. (n/k/a Second Solar, Inc.) because it has not filed any periodic reports since the period ended February 29, 2008.

It appears to the Securities and Exchange Commission that there is a lack of current and accurate information concerning the securities of First Transaction Management, Inc. because it has not filed any periodic reports since the period ended September 30, 2011.

It appears to the Securities and Exchange Commission that there is a lack of current and accurate information concerning the securities of jetPADS, Inc. because it has not filed any periodic reports since the period ended December 31, 2011.

It appears to the Securities and Exchange Commission that there is a lack of current and accurate information concerning the securities of PepperBall Technologies, Inc. because it has not filed any periodic reports since the period ended September 30, 2008.

It appears to the Securities and Exchange Commission that there is a lack of current and accurate information concerning the securities of Pure Play Music, Ltd. because it has not filed any periodic reports since the period ended September 30, 2008.

It appears to the Securities and Exchange Commission that there is a lack of current and accurate information concerning the securities of Rim Semiconductor Co. because it has not filed any periodic reports since the period ended April 30, 2008.

It appears to the Securities and Exchange Commission that there is a lack of current and accurate information concerning the securities of Small Business Co., Inc. because it has not filed any periodic reports since the period ended March 31, 2009.

It appears to the Securities and Exchange Commission that there is a lack of current and accurate information concerning the securities of StarVox Communications, Inc. because it has not filed any periodic reports since the period ended May 31, 2007.

It appears to the Securities and Exchange Commission that there is a lack of current and accurate information concerning the securities of Steakhouse Partners, Inc. because it has not filed any periodic reports since the period ended December 31, 2007.

It appears to the Securities and Exchange Commission that there is a lack of current and accurate information concerning the securities of Sutura, Inc. because it has not filed any periodic reports since the period ended December 31, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on September 10, 2013, through 11:59 p.m. EDT on September 23, 2013.

By the Commission.
Jill M. Peterson,
Assistant Secretary.

[FR Doc. 2013-22298 Filed 9-10-13; 4:15 pm]

BILLING CODE 8011-01-P